FEDERAL COMMUNICATIONS COMMISSION

[Report No. 2700]

Petition for Reconsideration of Action in Rulemaking Proceeding

March 31, 2005.

Petition for Reconsideration has been filed in the Commission's Rulemaking proceeding listed in this Public Notice and published pursuant to 47 CFR 1.429(e). The full text of this document is available for viewing and copying in Room CY-B402, 445 12th Street, SW., Washington, DC or may be purchased from the Commission's copy contractor, Best Copy and Printing, Inc. (BCPI) (1-800-378-3160). Oppositions to this petition must be filed by April 28, 2005. See Section 1.4(b)(1) of the Commission's rules (47 CFR 1.4(b)(1)). Replies to an opposition must be filed within 10 days after the time for filing oppositions have expired.

Subject: In the Matter of Amendment of Part 13 and 80 of the Commission's Rules Concerning Maritime Communications (WT Docket No. 00-48).

Petition for Rulemaking Filed by Globe Wireless, Inc. (RM-9499).

Amendment of the Commission's Rules Concerning Maritime Communications (PR Docket No. 92-257).

Number of Petitions Filed: 1.

Marlene H. Dortch,
Secretary.

[FR Doc. 05-7177 Filed 4-12-05; 8:45 am]

BILLING CODE 6712-01-M